DEPARTMENT OF COMMERCE

National Oceanic and Atmospheric Administration

[I.D. 091505C]

Pacific Fishery Management Council; Coastal Pelagic Species Fishery Management Plan Work Sessions Focused on 2006 Pacific Sardine Harvest Guideline and Krill Management Alternatives

AGENCY:

National Marine Fisheries Service (NMFS), National Oceanic and Atmospheric Administration (NOAA), Commerce.

ACTION: Notice of public meetings.

SUMMARY: The Pacific Fishery Management Council's (Council) Coastal Pelagic Species Advisory Subpanel (CPSAS) and Coastal Pelagic Species Management Team (CPSMT) will hold separate work sessions, which are open to the public.

DATES: The CPSMT will meet Wednesday, October 5, 2005 from 9 a.m. until business for the day is completed. The CPSAS will meet Thursday, October 6, 2005 from 9 a.m. until business for the day is completed.

ADDRESSES: The meetings will be held at National Marine Fisheries Service, Southwest Fisheries Science Center, Large Conference Room (A-216), 8604 La Jolla Shores Drive, La Jolla, California 92037, 858-546-7000.

Council address: Pacific Fishery Management Council, 7700 NE Ambassador Place, Suite 200, Portland, Oregon 97220-1384.

FOR FURTHER INFORMATION CONTACT: Mr. Mike Burner, Pacific Fishery Management Council, 503-820-2280.

SUPPLEMENTARY INFORMATION: The CPSMT and CPSAS will meet separately to review the 2005 Pacific sardine stock assessment and harvest guideline recommendation for the 2006 season, krill management alternatives, proposed fishing regulations in federal waters of the Channel Islands National Marine Sanctuary, and Vessel Monitoring System expansion alternatives. The CPSMT and CPSAS will develop recommendations on these items for presentation to the Council at the November 2005 Council meeting.

Although nonemergency issues not contained in the meeting agenda may come before the CPSAS or CPSMT for discussion, those issues may not be the subject of formal action during this meeting. Action will be restricted to those issues specifically listed in this document and any issues arising after publication of this document that require emergency action under Section 305(c) of the Magnuson-Stevens Fishery Conservation and Management Act, provided the public has been notified of the CPSAS's or CPSMT's intent to take final action to address the emergency.

Special Accommodations

The meeting is physically accessible to people with disabilities. Requests for sign language interpretation or other auxiliary aids should be directed to Ms. Carolyn Porter at (503) 820-2280 at least five days prior to the meeting date.

Dated: September 15, 2005.
Alan D. Risenhoover,
Acting Director, Office of Sustainable Fisheries, National Marine Fisheries Service.

[FR Doc. E5-5140 Filed 9-20-05; 8:45 am]

BILLING CODE 3510-22-S